DEPARTMENT OF COMMERCE

International Trade Administration

Harvard University; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5:00 P.M. in Room 4211, U.S. Department of Commerce, 14th and Constitution Avenue, N.W., Washington, D.C.

Docket Number: 00-043. Applicant: Harvard University, Cambridge, MA 02138. Instrument: Picking and Gridding QBot with Accessories. Manufacturer: Genetix Ltd., United Kingdom. Intended Use: See notice at 66 FR 7626, January 24, 2001.

Comments: None received. Decision: Approved. No instrument of equivalent scientific value to the foreign instrument, for such purposes as it is intended to be used, is being manufactured in the United States. Reasons: The foreign instrument provides: (1) A 96 pin pneumatic picking head with a picking rate of 4000 picks per hour and (2) various picking head configurations to accommodate different containers and micro array plates. The National Institutes of Health advises in its memorandum of January 11, 2001 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 01-6120 Filed 3-12-01; 8:45 am]

BILLING CODE 3510-DS-P